DEPARTMENT OF THE INTERIOR

Bureau of Land Management

[LLNMF010000 L13100000.PP0000 223L1109AF]

Notice of Public Meeting, Northern New Mexico Resource Advisory Council, New Mexico

AGENCY: Bureau of Land Management, Interior.

ACTION: Notice of meeting.

SUMMARY: In accordance with the Federal Land Policy and Management Act of 1976, as amended, and the Federal Advisory Committee Act of 1972, the U.S. Department of the Interior, Bureau of Land Management's (BLM) Northern New Mexico Resource Advisory Council (RAC) will meet on December 1-2, 2022.

DATES: The Northern New Mexico RAC will meet as follows:

• The Northern New Mexico RAC will host a field tour for proposed target shooting areas near Santa Fe, New Mexico, on Thursday, December 1, 2022, from 9 a.m. to 4 p.m. Mountain Daylight Time. All attendees planning to join the field tour should meet at the BLM New Mexico State Office.

• The Northern New Mexico RAC will host an in-person meeting, with a virtual participation option, on Friday, December 2, 2022, from 8 a.m. to 4 p.m. Mountain Daylight Time at the BLM New Mexico State Office.

The field tour and meeting are open to the public.

ADDRESSES: Field tour attendees should meet at the BLM New Mexico State Office, 301 Dinosaur Trail, Santa Fe, New Mexico 87508 at 9 a.m. on Thursday, December 1, 2022. In person meeting attendees should meet at 8 a.m. on Friday, December 2, 2022, at the BLM New Mexico State Office.

The virtual meeting will be available on the Zoom Webinar platform. The public can register for this meeting by visiting: https://blm.zoomgov.com/j/1615896397?pwd=RjhkRG41T2RTRXBJaGRhWk5POWxnUT09.

Written comments pertaining to the meeting may be filed in advance of the meeting using the BLM address listed in the FOR FURTHER INFORMATION CONTACT section of this notice. Please include “RAC Comment” in your submission.

FOR FURTHER INFORMATION CONTACT: Jillian Aragon, BLM Farmington District Office, 6251 College Boulevard, Suite A, Farmington, New Mexico 87402; (505) 564-7722. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The chartered 12-member Northern New Mexico RAC advises the Secretary of the Interior, through the BLM, on a variety of planning and management issues associated with public land management in its area of jurisdiction.

Planned meeting agenda items includes member training; nomination for Chair and Vice-Chair; Federal Land Recreation Enhancement Act fee proposals for the U.S. Forest Service's Carson, Cibola, and Santa Fe National Forests; updates from the BLM Farmington, Taos, and Rio Puerco Field Offices; and a public comment session. The agenda is subject to change and will be posted two weeks in advance of the meeting on the RAC's web page at https://www.blm.gov/get-involved/resource-advisory-council/near-you/new-mexico/northern-rac.

All Northern New Mexico RAC field tours and meetings are open to the public.

All attendees for the field trip will be responsible for their own transportation and meals. Members of the public wishing to attend the field trip should notify the person listed in the FOR FURTHER INFORMATION CONTACT section of this notice at least two weeks in advance so that the agency can ensure compliance with Federal and State of New Mexico large group guidance.

Public Comment Procedures

The BLM welcomes comments from all interested parties. There will be a half-hour public comment period during the December 2 meeting starting at 3 p.m. for any interested members of the public who wish to address the Northern New Mexico RAC. Depending on the number of persons wishing to speak, the time for individual comments may be limited. Before including your address, phone number, email address, or other personal identifying information in your comment, you should be aware that your entire comment—including your personal identifying information—may be made publicly available at any time. While you can ask us in your comment to withhold your personal identifying information from public review, we cannot guarantee that we will be able to do so.

Meeting Accessibility/Special Accommodations: Please make requests in advance for sign language interpreter services, assistive listening devices, or other reasonable accommodations. We ask that you contact the person listed in the (see FOR FURTHER INFORMATION CONTACT) section of this notice at least seven (7) business days prior to the meeting to give the Department of the Interior sufficient time to process your request. All reasonable accommodation requests are managed on a case-by-case basis.

Detailed meeting minutes for the Northern New Mexico RAC will be maintained in the Farmington District Office listed in the FOR FURTHER INFORMATION CONTACT section of this notice. The meeting minutes will be available for public inspection and reproduction during regular business hours within 90 days following the meeting. Minutes will also be posted on the RAC's web page at: https://www.blm.gov/get-involved/resource-advisory-council/near-you/new-mexico/northern-rac.

Authority: 43 CFR 1784.4-1.

Alfred M. Elser,
BLM Farmington District Manager.

[FR Doc. 2022-19253 Filed 9-6-22; 8:45 am]

BILLING CODE 4331-23-P